ENVIRONMETAL PROTECTION AGENCY

[FRL-9924-53-Region-5]

Proposed CERCLA Administrative Cost Recovery Settlement; Shaw Road Drum Site, Clyde, Ohio

AGENCY: Environmental Protection Agency (EPA).

ACTION: Notice; request for public comment.

SUMMARY: In accordance with Section 122(i) of the Comprehensive Environmental Response, Compensation, and Liability Act, as amended (“CERCLA”), 42 U.S.C. 9622(i), notice is hereby given of a proposed administrative settlement for recovery of past response costs concerning the Shaw Road Drum Site in Clyde, Ohio with the settling party: Lamar M. Durst Sr. Estate. The settlement requires the settling party to pay $50,000 to the Hazardous Substance Superfund. The settlement includes a covenant not to sue the settling party pursuant to Section 107(a) of CERCLA, 42 U.S.C. 9607(a). For thirty (30) days following the date of publication of this notice, the Agency will receive written comments relating to the settlement. The Agency will consider all comments received and may modify or withdraw its consent to the settlement if comments received disclose facts or considerations which indicate that the settlement is an appropriate, improper, or inadequate. The Agency's response to any comments received will be available for public inspection at the U.S. EPA Record Center, Room 714 U.S. EPA, 77 West Jackson Boulevard, Chicago, Illinois.

DATES: Comments must be submitted on or before April 16, 2015.

FOR FURTHER INFORMATION CONTACT: Cathleen R. Martwick, Associate Regional Counsel, EPA Region 5, Office of Regional Counsel, C-14J, Environmental Protection Agency, 77 W. Jackson Blvd., Chicago, Illinois 60604-3590; telephone number (312) 886-7166; fax number (312) 697-2060; email address: martwick.cathleen@epa.gov.

Dated: March 9, 2015.
Doug Ballotti,
Acting Director, Superfund Division, Region 5.

[FR Doc. 2015-06113 Filed 3-16-15; 8:45 am]

BILLING CODE 6560-50-P